DEPARTMENT OF HEALTH AND HUMAN SERVICES

Centers for Disease Control and Prevention

[60Day-05AG]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Seleda Perryman, CDC Assistant Reports Clearance Officer, 1600 Clifton Road, MS-E11, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Process Evaluation of the Protocol for Assessing Community Excellence in Environmental Health—New—National Center for Environmental Health (NCEH), Centers for Disease Control and Prevention (CDC).

CDC, through a cooperative agreement with the National Association of City and County Health Organizations (NACCHO), developed and disseminated the Protocol for Assessing Community Excellence in Environmental Health (PACE EH). This document consists of 13 tasks to engage the community in environmental health planning and assessment activities. PACE EH seeks to strengthen public health leadership, promote community collaboration, and encourage environmental justice. In the long run, PACE EH seeks to establish a new leadership role for local public health agencies and build sustainable community processes for decision-making. More than 1,700 copies of a guidebook have been disseminated to the public and organizations that requested one or more copies for review. Little is known about how each of the hundreds of potentially interested communities nationwide evaluates the suitability of the PACE EH methodology to its own situation; the relative advantages and disadvantages each perceives in this methodology compared to other tools; methods available for conducting environmental health assessments; and the range of challenges encountered in implementing the method.

The purpose of the proposed study is to obtain information from current and potential PACE EH users that will be used to guide resource decisions related to its continued support and development. Two data collection activities are proposed. The first is a Web survey of all state and local health agencies that requested a copy of the PACE EH Guidebook. The survey will ask questions about their decision whether to adopt the method; and if they did choose to adopt it, questions will be asked about their progress, challenges faced, and impact of the method on their agency, community, and environment. The second data collection activity is a one-day site visit to 24 of the communities that are actively engaged in implementation to conduct interviews with key staff and community members. These site visits will provide additional detail about implementation issues and challenges that are not readily obtained through survey methodology. There are no costs to respondents except for their time to participate.

Annualized Burden Table
Data collections | Number of respondents | Number of responses per respondent | Average burden per response (in hours) | Total burden hours
PACE EH Requestor Survey | 700 | 1 | 45/60 | 525 | PACE EH Participant Interview | 192 | 1 | 1 | 192
Total |  |  |  | 717

Dated: December 21, 2004.
B. Kathy Skipper,
Acting Director, Management Analysis and Services Office, Centers for Disease Control and Prevention.

[FR Doc. 04-28611 Filed 12-29-04; 8:45 am]

BILLING CODE 4163-18-P